OFFICE OF PERSONNEL MANAGEMENT

Privacy Act of 1974; New Computer Matching Program Between the Office of Personnel Management and the Office of Workers' Compensation Programs and Department of Labor

AGENCY: Office of Personnel Management (OPM).

ACTION: Notice-computer matching between the Office of Personnel Management and the Department of Labor, Office of Worker's Compensation Programs; correction.

SUMMARY: In accordance with the Privacy Act of 1974 (5 U.S.C. 552a), as amended by the Computer Matching and Privacy Protection Act of 1988 (Pub. L. 100-503), Office of Management and Budget (OMB) Guidelines on the Conduct of Matching Programs, 54 FR 25818 (June 19, 1989), and OMB Circular No. A-130, “Management of Federal Information Resources” (revised November 28, 2000), the Office of Personnel Management (OPM) is publishing notice of its new computer matching program with the Department of Labor, Office of Workers' Compensation Programs (OWCP).

The Office of Personnel Management inadvertently published a notice document in the Federal Register of April 11, 2008 (73 FR 19911) titled, “Privacy Act of 1974; New Computer Matching Program Between the Office of Personnel Management and Social Security Administration.” This document replaces that notice.

DATES: OPM will file a report of the subject matching program with the Committee on Homeland Security and Governmental Affairs of the Senate, the Committee on Oversight and Government Reform of the House of Representatives and the Office of Information and Regulatory Affairs, Office of Management and Budget (OMB). The matching program will begin 30 days after the Federal Register notice has been published or 40 days after the date of OPM's submissions of the letters to Congress and OMB, whichever is later. The matching program will continue for 18 months from the beginning date and may be extended an additional 12 months thereafter. Subsequent matches will run until one of the parties advises the other in writing of its intention to reevaluate, modify and/or terminate the agreement.

ADDRESSES: Send comments to Sean Hershey, Chief, Management Information Branch, Office of Personnel Management, Room 4316, 1900 E. Street NW., Washington, DC 20415.

FOR FURTHER INFORMATION CONTACT: James Sparrow on (202) 606-1803.

SUPPLEMENTARY INFORMATION:

A. General

The Privacy Act, as amended (5 U.S.C. 552a), establishes the conditions under which computer matching involving the Federal government could be performed and adding certain protections for individuals applying for and receiving Federal benefits. The Privacy Act regulates the use of computer matching by Federal agencies when records in a system of records are matched with other Federal, State, or local government records. Among other things, it requires Federal agencies involved in computer matching programs to:

(1) Negotiate written agreements with the other agency for agencies participating in the matching programs;

(2) Obtain the approval of the match agreement by the Data Integrity Boards (DIB) of the participating Federal agencies;

(3) Furnish detailed reports about matching programs to Congress and OMB;

(4) Notify applicants and beneficiaries that their records are subject to matching;

(5) Verify match findings before reducing, suspending, termination or denying an individual's benefits or payments.

B. OPM Computer Matches Subject to the Privacy Act

We have taken action to ensure that all of OPM's computer matching programs comply with the requirements of the Privacy Act.

Notice of Computer Matching Program, Office of Personnel Management (OPM) With the Department of Labor, Office of Workers' Compensation Programs (OWCP)

A. Participating Agencies

OPM and DOL/OWCP.

B. Purpose of the Matching Program

The purpose of this agreement is to establish the conditions, safeguards and procedures under which the Department of Labor (DOL), Office of Workers' Compensation Programs (OWCP), will disclose Federal employee compensation benefit data to the Office of Personnel Management (OPM). The disclosure will provide OPM with information necessary to identify individuals receiving prohibited concurrent benefits under the Civil Service Retirement System (CSRS) (5 U.S.C. Chapter 83) or the Federal Employees' Retirement System (FERS) (5 U.S.C. Chapter 84) and the Federal Employees' Compensation Act (FECA) (5 U.S.C. Chapter 81).

C. Authority for Conducting the Matching Program

The authorities for conducting this matching program are sections 8347(m) and 8461(h)(1) of title 5 of the United States Code.

D. Categories of Records and Individuals Covered by the Match

The match will involve the OPM system of records published as OPM/Central-1, Civil Service Retirement and Insurance Records at 64 FR 54930 (Oct. 8, 1999), as amended at 65 FR 25775 (May, 2000) and the Department of Labor system of records published as DOL/GOVT-1, entitled “Office of Workers' Compensation Programs, Federal Employees' Compensation Act File” at 67 FR 16817 (Apr. 8, 2002).

E. Privacy Safeguards and Security

The Privacy Act (5 U.S.C. 552a(o)(1)(G)), requires that each matching agreement specify procedures for ensuring the administrative, technical and physical security of the records matched and the results of such programs. All Federal agencies are subject to: the Federal Information Security Management Act of 2002 (FISMA), 44 U.S.C. 3541 et seq.; related Office of Management and Budget circulars and memorandum (e.g., OMB Circular A-130 and OMB M-06-16); National Institute of Science and Technology (NIST) directives; and the Federal Acquisition Regulations (FAR). These laws, circulars, memoranda directives and regulations include requirements for safeguarding Federal information systems and personally identifiable information used in Federal agency business processes, as well as related reporting requirements. OPM and DOL/OWCP recognize that all laws, circulars, memoranda, directives and regulations relating to the subject of this agreement and published subsequent to the effective date of this agreement must also be implemented if mandated.

FISMA requirements apply to all Federal contractors and organizations or sources that possess or use Federal information, or that operate, use, or have access to Federal information systems on behalf of an agency. OPM will be responsible for oversight and compliance of their contractors and agents. Both OPM and DOL/OWCP reserve the right to conduct onsite inspection to monitor compliance with FISMA regulations.

F. Inclusive Dates of the Match

The matching program shall become effective upon the signing of the agreement by both parties to the agreement and approval of the agreement by the Data Integrity Boards of the respective agencies, but no sooner than 40 days after notice of this matching program is sent to Congress and the Office of Management and Budget or 30 days after publication of this notice in the Federal Register, whichever is later. The matching program will continue for 18 months from the effective date and may be extended for an additional 12 months thereafter, if certain conditions are met.

U.S. Office of Personnel Management.
Linda M. Springer,
Director.

[FR Doc. E8-8273 Filed 4-15-08; 8:45 am]

BILLING CODE 6325-38-P